SECURITIES AND EXCHANGE COMMISSION

[Release No. IA-2117; File No. 4-476]

Roundtable Discussions Relating to Hedge Funds

AGENCY: Securities and Exchange Commission.

ACTION: Notice of roundtable discussions; request for comment.

SUMMARY: On May 14 and 15, 2003, the Securities and Exchange Commission will host roundtable discussions concerning several issues relating to private, unregistered investment pools, commonly known as hedge funds. The roundtable discussions will bring together representatives from the hedge fund industry and other interested persons to discuss issues relating to hedge funds and offer their recommendations. The roundtable discussions will take place at the Commissions' headquarters at 450 Fifth Street, NW., Washington, DC from 9 a.m. to 5:30 p.m. each day. The public is invited to observe the roundtable discussions. Seating is available on a first-come, first-serve basis.

DATES: Comments must be received on or before April 30, 2003.

ADDRESSES: To help us process and review your comments more efficiently, comments should be sent by one method only. Comments should be submitted in triplicate to Jonathan G. Katz, Secretary, Securities and Exchange Commission, 450 Fifth Street, NW., Washington, DC 20549-0609. Comments may also be submitted electronically at the following E-mail address: hedgefunds@sec.gov. All comment letters should refer to File No. 4-476; this File number should be included on the subject line if E-mail is used. Comment letters will be available for public inspection and copying in the Commission's Public Reference Room, 450 Fifth Street, NW., Washington, DC 20549. Relevant electronically submitted comment letters also will be posted on the Commission's Internet Web site: http://www.sec.gov/spotlight/hedgefunds.htm.

FOR FURTHER INFORMATION CONTACT: Cynthia M. Fornelli, Deputy Director, Division of Investment Management, (202) 942-0720, or Elizabeth G. Osterman, Assistant Chief Counsel, Division of Investment Management, (202) 942-0580, Ostermane@sec.gov, at Securities and Exchange Commission, 450 Fifth Street, NW., Washington, DC 20549-0506.

SUPPLEMENTARY INFORMATION: The public may submit written comments on the following topics to be discussed at the Roundtable Discussions Relating to Hedge Funds:

The structure, operation and compliance activities of hedge funds, including the role of hedge fund service providers;

The marketing of hedge funds;

Investor protection concerns, including disclosure issues, valuation issues and potential conflicts of interest;

Current regulation of hedge funds and their managers, and whether additional regulation is necessary; and

If additional regulation is warranted, what form it might take.

By the Commission.
Dated: March 26, 2003.
Jonathan G. Katz,
Secretary.

[FR Doc. 03-7615 Filed 3-28-03; 8:45 am]

BILLING CODE 8010-01-P